DEPARTMENT OF ENERGY

Federal Energy Regulatory Commission

[Docket No. EL03-213-000]

Southern Nevada Water Authority, Complainant, v. Nevada Power Company, Respondent; Notice of Complaint

July 22, 2003.

Take notice that on July 18, 2003 Southern Nevada Water Authority (SNWA) tendered for filing with the Federal Energy Regulatory Commission (Commission) a Complaint Requesting Fast Track Processing against Nevada Power Company (NPC) pursuant to sections 206 and 306 of the Federal Power Act, 16 U.S.C. 824e and 825e, and Rule 206 of the Commission's Rules of Practice and procedure, 18 CFR 385.206. SNWA alleges that NPC has violated section 17.7 of NPC's Open-Access Transmission Tariff (OATT) in refusing to extend the commencement date of SNWA's Service Agreement No. 101B from August 31, 2003 to August 31, 2004.

On July 21, 2003 SNWA filed an Errata to its Complaint stating that the Complaint erroneously identified August 31, 2003 as the start date of the transmission service agreement in dispute. Those same references also identify August 31, 2004 as the date that SNWA requested for an extension of service pursuant to section 17.7 of NPC's open access transmission tariff. SNWA's transmission service agreement is to commence July 31, 2003 and SNWA requested a one-year extension until July 31, 2004.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date below. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Comment Date: July 31, 2003.

Magalie R. Salas,
Secretary.

[FR Doc. 03-19231 Filed 7-28-03; 8:45 am]

BILLING CODE 6717-01-P